DEPARTMENT OF COMMERCE

National Oceanic and Atmospheric Administration

50 CFR Part 660

[Docket No. 020430101-2101-01; I.D. 101102G]

Fisheries Off West Coast States and in the Western Pacific; West Coast Salmon Fisheries; Inseason Action 17—Adjustment of the Ceremonial and Subsistence Harvest Regulations for the Ocean Salmon Fisheries of the Quileute Tribe

AGENCY: National Marine Fisheries Service (NMFS), National Oceanic and Atmospheric Administration (NOAA), Commerce.

ACTION: Inseason adjustment; request for comments.

SUMMARY: NMFS announces that the ceremonial and subsistence (C&S) harvest regulations for the Quileute Tribe were modified to extend the C&S fishery through midnight on Tuesday, October 15, 2002, with a possession and landing limit of 20 salmon per day, and all size restrictions suspended for the duration of the fishery. On September 26, 2002 the Northwest Regional Administrator, NMFS (Regional Administrator), determined that available catch and effort data indicated that the tribal overall quota of 60,000 chinook and 60,000 coho salmon had not been reached, and it was found that there was enough salmon left in the quotas to allow additional days of fishing in the C&S fishery. These actions were necessary to conform to the 2002 management goals.

DATES: Closure of the C&S harvest for the Quileute Tribe effective 2359 hours local time, October 15, 2002, after which the fishery will remain closed until opened through an additional inseason action, which will be published in the Federal Register for the west coast salmon fisheries, or until the effective date of the year 2003 management measures. Comments will be accepted through November 15, 2002.

ADDRESSES: Comments on this action must be mailed to D. Robert Lohn, Regional Administrator, Northwest Region, NMFS, NOAA, 7600 Sand Point Way N.E., Bldg. 1, Seattle, WA 98115-0070; or faxed to 206-526-6376; or Rod McInnis, Acting Regional Administrator, Southwest Region, NMFS, NOAA, 501 W. Ocean Blvd., Suite 4200, Long Beach, CA 90802-4132; or faxed to 562-980-4018. Comments will not be accepted if submitted via e-mail or the Internet. Information relevant to this document is available for public review during business hours at the Office of the Regional Administrator, Northwest Region, NMFS.

FOR FURTHER INFORMATION CONTACT: Christopher Wright, 206-526-6140.

SUPPLEMENTARY INFORMATION: The Regional Administrator modified the C&S harvest regulations for the Quileute Tribe to extend the C&S fishery through midnight on Tuesday, October 15, 2002, with a possession and landing limit of 20 salmon per day, and all size restrictions suspended for the duration of the fishery. On September 26, 2002, the Northwest Regional Administrator, NMFS (Regional Administrator), determined that available catch and effort data indicated that the tribal quota of 60,000 chinook and 60,000 coho salmon had not been reached, and it was found that there was enough salmon left in the quotas to allow additional days of fishing in the C&S fishery. Modification of Treaty Indian fishing is authorized by regulations at 50 CFR 660.408(k)(1). Automatic season closures based on quotas are authorized by regulations at 50 CFR 660.409(a)(1), and modification of fishing seasons is authorized by regulations at 50 CFR 660.409(b)(1)(i).

In the 2002 annual management measures for ocean salmon fisheries (67 FR 30616, May 7, 2002), NMFS announced that all treaty Indian fisheries would open May 1, 2002, through the earlier of June 30, 2002, or a 30,000-chinook quota, and July 1, 2002, through the earliest of September 15, 2002, or a 30,000-chinook or the overall 60,000 coho quota. The minimum size and retention limits for C&S harvest for the Quileute, Hoh, and Quinault tribes were: “Not more than 2 chinook longer than 24 inches (61.0 cm) in total length may be retained per day. Chinook less than 24 inches (61.0 cm) total length may be retained.”

On September 26, 2002, the Regional Administrator consulted with representatives of the Pacific Fishery Management Council, the Quileute Tribe, the Washington Department of Fish and Wildlife, the Makah Tribe, the Quinault Tribe, and other interested parties by conference call. Information related to catch to date, the chinook and coho catch rates, and effort data indicated that the chinook and coho quotas had not been reached. As a result, the Quileute Tribe recommended, and the Regional Administrator concurred, that the Quileute Tribe's C&S fishery be modified to extend the C&S fishery through midnight on Tuesday, October 15, 2002, with a possession and landing limit of 20 salmon per day, and all size restrictions suspended for the duration of the fishery. All other restrictions that apply to this fishery remained in effect as announced in the 2002 annual management measures.

The Regional Administrator determined that the best available information indicated that the catch and effort data, and projections, supported the above inseason actions recommended by the Quileute Tribe. The States and Tribes manage the fisheries in State waters adjacent to the areas of the U.S. exclusive economic zone in accordance with this Federal action. As provided by the inseason notice procedures of 50 CFR 660.411 (a)(2), actual notice to fishers of the above described actions were given prior to the effective dates by telephone hotline number 206-526-6667 and 800-662-9825, and by U.S. Coast Guard Notice to Mariners broadcasts on Channel 16 VHF-FM and 2182 kHz.

These actions do not apply to other fisheries that may be operating in other areas.

Classification

The Assistant Administrator for Fisheries, NOAA (AA), finds that good cause exists for this notification to be issued without affording prior notice and opportunity for public comment under 5 U.S.C. 553(b)(B), or delaying the effectiveness of this rule for 30 days under 5 U.S.C. 553(d)(3), because such notification and delay is impracticable and contrary to the public interest. As previously noted, actual notice of these actions were provided to fishers through telephone hotline and radio notification. These actions comply with the requirements of the annual management measures for ocean salmon fisheries (67 FR 30616, May 7, 2002) and the West Coast Salmon Plan. Prior notice and opportunity for public comment is impracticable because NMFS, the Tribes, and the State agencies have insufficient time to provide for prior notice and the opportunity for public comment between the time the fishery catch and effort data are collected to determine the extent of the fisheries, and the time the limits to which the fishery must be in place. Moreover, such prior notice and the opportunity for public comment is contrary to the public interest because it does not allow fishers appropriately controlled access to the available fish at the time they are available.

The AA finds good cause to waive the 30-day delay in effectiveness required under 5 U.S.C. 553(d)(3). A delay in effectiveness of this action would not allow fishers appropriately controlled access to the available fish at the time they are available.

This action is authorized by 50 CFR 660.409 and 660.411 and is exempt from review under Executive Order 12866.

Authority: 16 U.S.C. 1801 et seq.

Dated: October 21, 2002.
Bruce C. Morehead,
Acting Director, Office of Sustainable Fisheries, National Marine Fisheries Service.

[FR Doc. 02-27361 Filed 10-25-02; 8:45 am]

BILLING CODE 3510-22-S